DEPARTMENT OF DEFENSE

Department of the Navy

[Docket ID: USN-2010-0032]

Privacy Act of 1974; System of Records

AGENCY: U.S. Marine Corps, Department of the Navy, DoD.

ACTION: Notice to reinstate a system of records.

SUMMARY: The U.S. Marine Corps proposes to reinstate a system of records to its inventory of record systems subject to the Privacy Act of 1974, (5 U.S.C. 552a), as amended.

After review, it has been determined that the records covered under this previously deleted notice (see 75 FR 43502, July 26, 2010) are not covered elsewhere as stated; therefore this notice is being reinstated.

DATES: This proposed action will be effective without further notice on October 27, 2010, unless comments are received which result in a contrary determination.

ADDRESSES: You may submit comments, identified by docket number and title, by any of the following methods:

* Federal Rulemaking Portal: http://www.regulations.gov. Follow the instructions for submitting comments.

* Mail: Federal Docket Management System Office, Room 3C843 Pentagon, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Ross at (703) 614-4008.

SUPPLEMENTARY INFORMATION: The U.S. Marine Corps system of records notices subject to the Privacy Act of 1974, (5 U.S.C. 552a), as amended, have been published in the Federal Register and are available from: Headquarters, U.S. Marine Corps, FOIA/PA Section (ARSF), 2 Navy Annex, Room 3134, Washington, DC 20380-1775.

The U.S. Marine Corps proposes to reinstate a system of records to its inventory of records systems subject to the Privacy Act of 1974 (5 U.S.C. 552a), as amended. The previous system of records notice is being republished in its entirety, below. The reinstatement is not within the purview of subsection of the Privacy Act of 1974, (5 U.S.C. 552a), as amended, which requires the submission of a new or altered system report.

Dated: September 22, 2010.
Mitchell S. Bryman,
Alternate OSD Federal Register Liaison Officer, Department of Defense.

M01070-6

SYSTEM NAME:

Marine Corps Official Military Personnel Files.

SYSTEM LOCATION:

Primary Location: For the Official Military Personnel File (OMPF) records of active regular and reserve members, those members who are on the Temporary Disability Retired List, and those members who retired, separated, died while in service, or with a remaining military service obligation after December 31, 1997, or later: Headquarters, U.S. Marine Corps (Code MMSB), 2008 Elliot Road, Quantico, VA 22134-5030.

For OMPF records of members who retired, separated, or died while in service, prior to 1998: National Personnel Records Center, Military Personnel Records, 9700 Page Avenue, St. Louis, MO 63132-5100.

Secondary Locations: For OQRs/SRBs records of Marine Corps Inactive Ready Reserve (IRR) members: Commanding General, Marine Corps Mobilization Command, 15303 Andrews Road, Kansas City, MO 64147-1207.

For OQRs/SRBs records of Marine Corps officer's or enlisted members: The duty Commanding Officer who has responsibility for the administration of the records.

Official mailing addresses are published in the Standard Navy Distribution List that is available at http://doni.daps.dla.mil/sndl.aspx.

CATEGORIES OF INDIVIDUALS COVERED BY THE SYSTEM:

Active duty and Corps Inactive Ready Reserve (IRR) members who are enlisted, appointed, or commissioned status; members of the U.S. Marine Corps who were enlisted, appointed, or commissioned status and were separated by discharge, death, or other termination of military status.

CATEGORIES OF RECORDS IN THE SYSTEM:

Individual's name, Social Security Number (SSN), enlistment contract, Department of Veterans Affairs benefit forms, physical evaluation board proceedings, military occupational specialty data, statement of service, qualification record, group life insurance election, emergency data, application for appointment, qualification/evaluation report, oath of office, medical examination, security clearance questionnaire, application/memo for retired pay, application for correction of military records, field/application for active duty, transfer or discharge report/Certificate of Release or Discharge from Active Duty, active duty report, voluntary reduction, line of duty and misconduct determinations, discharge or separation reviews, police record checks, consent/declaration of parent/guardian, Army Reserve Officers Training Corps supplemental agreement, award recommendations, academic reports, line of duty casualty report, U.S. field medical card, retirement points, deferment, pre-induction processing and commissioning data, transcripts of military records, summary sheets review of conscientious objector, options election, oath of enlistment, enlistment extensions, survivor benefit plans, efficiency reports, records of proceeding, 10 U.S.C. section 815 appellate actions, determinations of moral eligibility, waiver of disqualifications, temporary disability record, change of name, statements for enlistment, acknowledgments of service requirements, retired benefits, application for review by physical evaluation and disability boards, appointments, designations, evaluations, birth certificates, citizenship statements and status, educational constructive credit transcripts, flight status board reviews, assignment agreements, limitations/waivers/election and travel reports, efficiency appeals, promotion/reduction/recommendations, approvals/declinations announcements/notifications, reconsiderations/worksheets elections/letters or memoranda of notification to deferred officers and promotion passover notifications, absence without leave and desertion records, FBI reports, Social Security Administration correspondence, miscellaneous correspondence, documents, military orders relating to military service including information pertaining to dependents, interservice action and in service details, determinations, relief's, component, awards, pay entitlement, and other military service data, commendatory and derogatory material, performance evaluations for E5's and above, photographs, and other documents considered significant to document a Marine's military history.

AUTHORITY FOR MAINTENANCE OF THE SYSTEM:

10 U.S.C. 5041, Headquarters, Marine Corps; 42 U.S.C. 10606 as implemented by DoD Instruction 1030.1, Victim and Witness Assistance Procedures; and E.O. 9397 (SSN).

PURPOSE(S):

To assist officials and employees of the U.S. Marine Corps in the management, supervision, and administration of Marine Corps personnel (officer and enlisted), and the operations of related personnel affairs and functions.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

To officials and employees of the National Research Council in Cooperative Studies of the National History of Disease, of Prognosis and of Epidemiology. Each study in which the records of members and former members of the Marine Corps service are used must be approved by the Deputy Commandant for Manpower and Reserve Affairs.

To the U.S. Citizenship and Immigration Services for use in alien admission and naturalization inquiries.

To officials and employees of the Coast Guard in the performance of their official duties relating to screening members who have expressed a positive interest in an interservice transfer, enlistment, appointment, or acceptance.

To Secret Service agents in connection with matters under the jurisdiction of that agency upon presentation of credentials.

To the Office of Personnel Management for verification of military service for benefits, leave, or reduction-in-force purposes, and to establish Civil Service employee tenure and leave accrual rate.

To the Director of Selective Service System in the performance of official duties related to registration with the Selective Service System.

To the Social Security Administration to obtain or verify Social Security Numbers or to substantiate applicant's credit for social security compensation.

To officials and employees of the American Red Cross and Navy Relief Society in the performance of their duties. Access will be limited to those portions of the member's record required to effectively assist the member.

To officials and employees of the Sergeants at Arms of the U.S. House of Representatives and the U.S. Senate in the performance of official duties related to the verification of Marine Corps service. Access will be limited to those portions of the member's record required to verify service time, active, and reserve.

To officials and employees of the Department of Veterans Affairs, Department of Health and Human Services, and Selective Service Administration in the performance of their official duties related to eligibility, notification, and assistance in obtaining benefits by members and former members of the Marine Corps.

To officials and employees of the Department of Veterans Affairs in the performance of their official duties relating to approved research projects.

To officials and employees of other Departments and Agencies of the Executive Branch of government, upon request, in performance of their official duties related to the management, supervision, and administration of members and former members of the Marine Corps.

To Federal agencies, their contractors and grantees, and to private organizations, such as the National Academy of Sciences, for the purposes of conducting personnel and/or health-related research in the interest of the Federal government and the public. When not considered mandatory, the names and other identifying data will be eliminated from records used for such research studies.

To officials and employees of Navy-Marine Corps Relief Society and the American Red Cross in the performance of their duties relating to the assistance of the members and their dependents and relatives, or related to assistance previously furnished such individuals, without regard to whether the individual assisted or his/her sponsor continues to be a member of the Marine Corps. Access will be limited to those portions of the member's record required to effectively assist the member.

To duly appointed Family Ombudsmen and Key Volunteers in the performance of their duties related to the assistance of the members and their families.

To victims and witnesses of a crime for purposes of providing information consistent with the Victim and Witness Assistance Program and the Sexual Assault Prevention and Response Program regarding the investigation and disposition of an offense. Access will be limited to information concerning the processing and final disposition, results of any criminal or adverse proceeding (e.g., court-martial, non-judicial punishment, administrative separation), with the exception of victims and witnesses identified as protected persons on a Military Protective Order, who may receive a copy of the Military Protective Order.

Information as to current military addresses and assignments may be provided to military banking facilities who provide banking services overseas and who are reimbursed by the Government for certain checking and loan losses. For personnel separated, discharged, or retired from the Armed Forces information as to last known residential or home of record address may be provided to the military banking facility upon certification by a banking facility officer that the facility has a returned or dishonored check negotiated by the individual or the individual has defaulted on a loan and that if restitution is not made by the individual the United States Government will be liable for the losses the facility may incur.

To other governmental entities or private organizations under government contract to perform random analytical research into specific aspects of military personnel management and administrative procedures.

The DoD ‘Blanket Routine Uses’ set forth at the beginning of the Marine Corps compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

Individual's name, Social Security Number (SSN), and/or service number.

SAFEGUARDS:

Records are maintained in secure, limited access, or monitored areas. Physical entry by unauthorized persons is restricted through the use of locks, guards, passwords, or other administrative procedures. Access to personal information is limited to those individuals who require the records to perform their official assigned duties.

RETENTION AND DISPOSAL:

Official Military Personnel File records are permanent.

Records of Marines who separated, retired, or whose military service obligation expired prior to 1 January 1998 are maintained at the National Personnel Records Center, 9700 Page Avenue, St. Louis, MO 63132-5100.

The records of Marines with remaining military service obligation or contractual obligations after 31 December 1997 are maintained at Headquarters, U.S. Marine Corps, U.S. Marine Corps (Code MMSB), 2008 Elliot Road, Quantico, VA 22134-5030.

Permanent records are transferred to the National Archives and Records Administration (NARA) 62 years after the completion of the service member's obligated service.

For Official Military Personnel File records of Marine Corps members in the regular or reserve components as of 1 January 1998 or those members who separated, retired, or died while in service, in the year 1998 or later are maintained at the National Personnel Records Center, Military Personnel Records Branch, 9700 Page Avenue, St. Louis, MO 63132-5100.

SYSTEM MANAGER(S) AND ADDRESS:

Commandant of the Marine Corps, Headquarters, U.S. Marine Corps, Washington, DC 20380-1775.

NOTIFICATION PROCEDURE:

Individuals seeking to determine whether information about themselves is contained in this system of records should address written inquiries to the following officials:

Inquiries regarding permanent Official Military Personnel File records of all active duty and reserve members, former members discharged, deceased, or retired after 31 December 1997 should be addressed to the Commandant of the Marine Corps (Code MMSB), Headquarters, U.S. Marine Corps, 2008 Elliot Road, Quantico, VA 22134-5030.

Inquiries regarding field Service Record Books/Officer Qualification Records of reserve members serving in the Individual Ready Reserve should be addressed to the Commanding General, Marine Corps Mobilization Command, 15303 Andrews Road, Kansas City, MO 64147-1207.

Inquiries regarding Official Military Personnel File records of former members discharged, deceased, or retired before 1 January 1998 should be addressed to the Director, National Personnel Records Center, Military Personnel Records, 9700 Page Avenue, St. Louis, MO 63132-5100.

Veterans and relatives of deceased veterans may obtain information on how to obtain copies of records from the NPRC Web site at http://www.archives.gov/st-louis/military-personnel/index.html.

Inquiries regarding field Service Record Books/Officer Qualification Records of current members should be addressed to the Commanding Officer of the Marine Corps unit to which they are attached.

Official mailing addresses are published in the Standard Navy Distribution List that is available at http://doni.daps.dla.mil/sndl.aspx.

Requests should contain the member's full name, Social Security Number (SSN) (and/or enlisted or officer service number), rank/rate, approximate dates of service, address, and signature of the requester. Transfer or Discharge (DD Form 214), discharge certificate, driver's license, or other data sufficient to ensure that the member is the subject of the record.

Current members (active and reserve) and former members may visit any of the above activities for review of records. Proof of identification will be required and may consist of an individual's active, reserve, or retired identification card, Armed Forces Report of.

RECORD ACCESS PROCEDURES:

Individuals seeking access to records about themselves contained in this system of records should address written requests to the following officials:

Inquiries regarding permanent Official Military Personnel File records of all active duty and reserve members, former members discharged, deceased, or retired after 31 December 1997 should be addressed to the Commandant of the Marine Corps (Code MMSB), Headquarters, U.S. Marine Corps, 2008 Elliot Road, Quantico, VA 22134-5030.

Inquiries regarding field Service Record Books/Officer Qualification Records of reserve members serving in the Individual Ready Reserve should be addressed to the Commanding General, Marine Corps Mobilization Command, 15303 Andrews Road, Kansas City, MO 64147-1207.

Inquiries regarding Official Military Personnel File records of former members discharged, deceased, or retired before 1 January 1998 should be addressed to the Director, National Personnel Records Center, Military Personnel Records, 9700 Page Avenue, St. Louis, MO 63132-5100.

Veterans and relatives of deceased veterans may obtain information on how to obtain copies of records from the National Personnel Records Center Web site at http://www.archives.gov/st-louis/military-personnel/index.html.

Inquiries regarding field Service Record Books/Officer Qualification Records of current members should be addressed to the Commanding Officer of the Marine Corps unit to which they are attached.

Official mailing addresses are published in the Standard Navy Distribution List that is available at http://doni.daps.dla.mil/sndl.aspx.

Requests should contain the member's full name, Social Security Number (SSN) (and/or enlisted or officer service number), rank/rate, approximate dates of service, address, and signature of the requester.

Current members (active and reserve) and former members may visit any of the above activities for review of records. Proof of identification will be required and may consist of an individual's active, reserve, or retired identification card, Armed Forces Report of Transfer or Discharge (DD Form 214), discharge certificate, driver's license, or other data sufficient to ensure that the member is the subject of the record.

CONTESTING RECORD PROCEDURES:

The USMC rules for contesting contents and appealing initial agency determinations are published in Secretary of the Navy Instruction 5211.5; Marine Corps Order P5211.2; 32 CFR part 701; or may be obtained from the system manager.

RECORD SOURCE CATEGORIES:

Staff agencies and subdivisions of Headquarters, U.S. Marine Corps; Marine Corps commands and organizations; other agencies of Federal, State, and local government; medical reports; correspondence from financial and other commercial enterprises; correspondence and records of educational institutions; correspondence of private citizens addressed directly to the Marine Corps or via the U.S. Congress and other agencies; investigations to determine suitability for enlistment, security clearances, and special assignments; investigations related to disciplinary proceedings; and the individual of the record.

EXEMPTIONS CLAIMED FOR THE SYSTEM:

None.

[FR Doc. 2010-24168 Filed 9-24-10; 8:45 am]

BILLING CODE 5001-06-P